DEPARTMENT OF THE INTERIOR

Fish and Wildlife Service

[FWS-R2-ES-2011-N194; 20124-1113-0000-F5]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before November 14, 2011.

ADDRESSES: Marty Tuegel, Section 10 Coordinator, by U.S. mail at Division of Endangered Species, U.S. Fish and Wildlife Service, P.O. Box 1306, Room 6034, Albuquerque, NM at (505) 248-6920. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-48847A

Applicant: Texas A & M University, Galveston, Texas.

Applicant requests a new permit for husbandry and holding of Kemp's ridley (Lepidochelys kempii), hawksbill (Eretmochelys imbricata), green (Chelonia mydas), and loggerhead (Caretta caretta) sea turtles within the Sea Life Center, Galveston, Texas.

Permit TE-42739A

Applicant: Sea Life, Tempe, Arizona.

Applicant requests a new permit for husbandry and holding of green (Chelonia mydas) sea turtles within the Sea Life Center, Arizona.

Permit TE-46978A

Applicant: U.S. Department of Agriculture, North Central Plant Introduction Station, Ames, Iowa.

Applicant requests a new permit for research and recovery purposes to collect, propagate, and distribute for reintroduction seeds from Helianthus paradoxus (Pecos sunflower) from plants in Texas.

Permit TE-829761

Applicant: Bureau of Land Management, Las Cruces, New Mexico.

Applicant requests a renewal to a current permit for research and recovery purposes to conduct presence/absence surveys for the following species within New Mexico:

• Southwestern willow flycatcher (Empidonax traillii extimus).

• Northern aplomado falcon (Falco femeralis septentrionalis).

• Lesser long-nosed bat (Leptonycteris curasoae yerbabuenae).

• Mexican long-nosed bat (Leptonycteris nivalis).

Permit TE-52420A

Applicant: Pima County, Tucson, Arizona.

Applicant requests a new permit for research and recovery purposes to conduct presence/absence surveys for the following species within Pima County, Arizona:

• Southwestern willow flycatcher (Empidonax traillii extimus).

• Northern aplomado falcon (Falco femeralis septentrionalis).

• Lesser long-nosed bat (Leptonycteris curasoae yerbabuenae).

• Jaguar (Panthera onca), ocelot (Leopardus pardalis).

• Interior least tern (Sterna antillarum athalassos).

• California least tern (Sterna antillarum browni).

• Gila chub (Gila intermedia).

• Gila topminnow (Poeciliopsis occidentalis occidentalis).

Permit TE-53840A

Applicant: David Griffin, Las Cruces, New Mexico.

Applicant requests a new permit for research and recovery purposes to conduct presence/absence surveys for southwestern willow flycatcher (Empidonax traillii extimus) within New Mexico and Texas and northern aplomado falcon (Falco femeralis septentrionalis) within New Mexico, Arizona, and Texas.

Permit TE-168688

Applicant: Sarah Itz, Austin, Texas.

Applicant requests a new permit for research and recovery purposes to conduct presence/absence surveys for golden-cheeked warbler (Dendroica chrysoparia) and black-capped vireo (Vireo atricapilla) within Texas.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, e-mail address, or other personal identifying information in your comment, you should be aware that your entire comment—including your personal identifying information—may be made publicly available at any time. While you can ask us in your comment to withhold your personal identifying information from public review, we cannot guarantee that we will be able to do so.

Authority We provide this notice under section 10 of the Act (16 U.S.C. 1531 et seq.)

Dated: October 3, 2011.
Joy E. Nicholopoulos,
Regional Director, Southwest Region.

[FR Doc. 2011-26279 Filed 10-11-11; 8:45 am]

BILLING CODE P